DEPARTMENT OF COMMERCE

International Trade Administration

U.S. Department of Agriculture; Notice of Decision on Application for Duty-Free Entry of Scientific Instrument

This decision is made pursuant to Section 6(c) of the Educational, Scientific, and Cultural Materials Importation Act of 1966 (Pub. L. 89-651, 80 Stat. 897; 15 CFR part 301). Related records can be viewed between 8:30 A.M. and 5:00 P.M. in Room 4211, U.S. Department of Commerce, 14th and Constitution Avenue, NW, Washington, DC.

Docket Number: 00-001.

Applicant: U.S. Department of Agriculture, Albany, CA 94710.

Instrument: Picking and Gridding Q-Bot System.

Manufacturer: Genetix Ltd., United Kingdom.

Intended Use: See notice at 65 FR 3666.

Comments: None received.

Decision: Approved. No instrument of equivalent scientific value to the foreign instrument, for such purposes as it is intended to be used, is being manufactured in the United States.

Reasons: The foreign instrument provides a unique multi-tasking robot for selecting recombinant DNA inserts with: (1) a pneumatic picking head for sampling 3500 colonies per hour, (2) replication of plates (96 or 384 wells) to distribute clones, (3) ability to create high density arrays of bacteria on nylon filters and (4) a rearraying package. The National Institutes of Health advises in its memorandum of February 11, 2000 that (1) these capabilities are pertinent to the applicant's intended purpose and (2) it knows of no domestic instrument or apparatus of equivalent scientific value to the foreign instrument for the applicant's intended use.

We know of no other instrument or apparatus of equivalent scientific value to the foreign instrument which is being manufactured in the United States.

Frank W. Creel,
Director, Statutory Import Programs Staff.

[FR Doc. 00-6549 Filed 3-15-00; 8:45 am]

BILLING CODE 3510-DS-P